DEPARTMENT OF DEFENSE

Office of the Secretary

Notice of Availability of the Ground-Based Midcourse Defense Extended Test Range Draft Environmental Impact Statement

AGENCY: Missile Defense Agency/Federal Aviation Administration, Department of Defense.

ACTION: Notice of availability.

SUMMARY: This notice announces the availability of the Ground-Based Midcourse Defense (GMD) Extended Test Range Draft Environmental Impact Statement (DEIS), that analyzes the potential for environmental impacts associated with the proposed action of the establishment of an extended test range capability providing more realistic operational flight testing. The current capability includes missile launch sites and array of sensors and other test equipment located at the Ronald Reagan Ballistic Missile Test Site (RTS) at Kwajalein Atoll, the Pacific Missile Range Facility (PMRF) in Hawaii, and Vandenberg Air Force Base (AFB) in California.

The proposed action and alternatives examined in the DEIS include development of the capability for single and dual launches of interceptor and target missiles at the Kodiak Launch Complex (KLC) Alaska, RTS, and/or Vandenberg AFB, with intercepts over the Pacific Ocean. Development of these capabilities would entail construction of two interceptor launchers, one additional target launch pad and construction/alteration of launch support facilities at KLC; target pad modifications at RTS; modification of support facilities at Vandenberg AFB; construction of In-Flight Interceptor Communication System (IFICS) Data Terminals and military and commercial satellite communications in the mid-Pacific and at KLC or Vandenberg AFB; additional range instrumentation (tracking and range safety radars) in the vicinity of sites; and use of either existing Battle Management Command and Control (BMC2) facilities at Reagan Test Site, or new BMC2 facilities that may be developed at Forth Greely, Alaska and/or Shriever AFB, or Cheyenne Mountain Complex, Colorado, in the validation of the GMD operational concept effort.

Additionally, the proposed action and alternatives include the construction and operation of a Sea-Based Test X-Band Radar (SBX) that would operate in the Pacific broad ocean area and would be home-based in either Alaska, California, Washington, or Hawaii.

Public Hearings: In order to facilitate public review and comment on the DEIS, public hearings have been scheduled at the following cities:

City | Date | Location
Oxnard, CA | February 24, 2003 | Oxnard Public Library.
Kodiak, AK | February 24, 2003 | Kodiak High School.
Lompoc, CA | February 25, 2003 | Lompoc City Council Chambers.
Anchorage, AK | February 25, 2003 | Egan Convention Center.
Valdez, AK | February 26, 2003 | Valdez Convention Center.
Everett, WA | February 27, 2003 | Everett Holiday Inn.
Honolulu, HI | March 6, 2003 | Disabled American Veterans Hall, Keehi Lagoon Park.

Detailed information on location and times for each of the public hearing will be published in local and regional newspapers two weeks in advance, and public service announcements will be provided to radio and television stations. MDA, GMD, and U.S. Army Space and Missile Defense Command personnel will attend all sessions to present information on the DEIS, to receive comments, and to answer questions.

Copies of the document will be made available at the following public libraries:

• Anchorage Municipal Library, 3600 Denali St., Anchorage, AK 99503

• Everett Library, 2702 Hoyt Ave, Everett, WA 98201

• Kodiak City Library, 319 Lower Mill Bay Rd, Kodiak, AK 99615

• Lompoc Public Library, 501 E North Ave, Lompoc, CA 93436

• Mountain View Branch Library, 150 S Bragaw St, Anchorage, AK 99508

• Oxnard Public Library, 251 S A St., Oxnard, CA 93030

• Valdez City Library, 212 Fairbanks, Valdez, AK 99686

• Hawaii State Library, Hawaii Documents Center, 478 South King St., Honolulu, HI 96813

• University of Hawaii at Manoa, Hamilton Library, 2550 The Mall, Honolulu, HI 96822

DATES: Public comments are invited and must be postmarked by March 24, 2003.

ADDRESSES: Requests for copies of the document or to provide comments on the DEIS should be addressed to: U.S. Army Space and Missile Defense Command, ATTN: SMDC-EN-V (Mrs. Julia Hudson-Elliott), 106 Wynn Drive, Huntsville, AL 35805, by e-mail at gmdetreis@smdc.army.mil, or by phone at 1-800-823-8823.

FOR FURTHER INFORMATION CONTACT: For additional information on the MDA GMD program, please call Mr. Rick Lahner at (703) 697-8997.

Dated: February 3, 2003.
Patricia L. Toppings,
Alternate OSD Federal Register Liaison Officer, Department of Defense.

[FR Doc. 03-2975 Filed 2-6-03; 8:45 am]

BILLING CODE 5001-08-M